DEPARTMENT OF EDUCATION

Applications for New Awards; Education Innovation and Research Program—Early-Phase Grants

AGENCY: Office of Innovation and Improvement, Department of Education.

ACTION: Notice.

Overview Information

Education Innovation and Research Program—Early-phase Grants.

Notice inviting applications for new awards for fiscal year (FY) 2017.

Catalog of Federal Domestic Assistance (CFDA) Number: 84.411C (Early-phase Grants).

DATES:

Applications Available: December 19, 2016.

Deadline for Notice of Intent To Apply: February 13, 2017.

Deadline for Transmittal of Applications: April 13, 2017.

Deadline for Intergovernmental Review: June 13, 2017.

Full Text of Announcement

I. Funding Opportunity Description

Purpose of Program: The Education Innovation and Research (EIR) Program, established under section 4611 of the Elementary and Secondary Education Act (ESEA), as amended by Every Student Succeeds Act (ESSA), provides funding to create, develop, implement, replicate, or take to scale entrepreneurial, evidence-based, field-initiated innovations to improve student achievement (as defined in this notice) and attainment for high-need students (as defined in this notice); and rigorously evaluate such innovations. The EIR program is designed to generate and validate solutions to persistent educational challenges and to support the expansion of effective solutions to serve substantially larger numbers of students.

The central design element of the EIR program is its multi-tier structure that links the amount of funding that an applicant may receive to the quality of the evidence supporting the efficacy of the proposed project, with the expectation that projects that build this evidence will advance through EIR's grant tiers. Applicants proposing innovative projects that are supported by limited evidence can receive relatively small grants to support the development, iteration, and initial evaluation of the practices (as defined in this notice); applicants proposing projects supported by evidence from rigorous evaluations, such as large randomized controlled trials (as defined in this notice), can receive larger grant awards to support expansion across the country. This structure provides incentives for applicants to: (1) Explore new ways of addressing persistent challenges that other educators can build on and learn from; (2) build evidence of effectiveness of their practices; and (3) replicate and scale successful practices in new schools, districts, and states while addressing the barriers to scale, such as cost structures and implementation fidelity.

All EIR projects are expected to generate information regarding their effectiveness in order to inform EIR grantees' efforts to learn about and improve upon their efforts, and to help similar, non-EIR efforts across the country benefit from EIR grantees' knowledge. By requiring that all grantees conduct independent evaluations (as defined in this notice) of their EIR projects, EIR ensures that its funded projects make a significant contribution to improving the quality and quantity of information available to practitioners and policymakers about which practices improve student achievement, for which types of students, and in what contexts.

The Department of Education (Department) awards three types of grants under this program: “Early-phase” grants, “Mid-phase” grants, and “Expansion” grants. These grants differ in terms of the level of prior evidence of effectiveness required for consideration for funding, the expectations regarding the kind of evidence and information funded projects should produce, the level of scale funded projects should reach, and, consequently, the amount of funding available to support each type of project.

EIR Early-phase grants provide funding to support the development, iteration, implementation, and feasibility testing of practices that are expected to be novel and significant relative to others that are underway nationally. These Early-phase grants are not intended simply to implement established practices in additional locations or address needs that are unique to one particular context. The goal is to determine whether and in what ways relatively newer practices can improve student achievement for high-need students.

This notice invites applications for Early-phase grants only. The notices inviting applications for Mid-phase and Expansion grants are published elsewhere in this issue of the Federal Register.

Background: EIR builds on seven years of investments—over $1.4 billion, matched by over $200 million in private sector resources—from the Department's Investing in Innovation (i3) program. i3 has generated new information regarding effective educational practices and increased evaluators' capacity to conduct rigorous evaluations of student learning outcomes that provide actionable information for educators. EIR is designed to build upon the successes of i3 to offer new opportunities for States, districts, schools, and educators to develop innovations and scale effective practices that address their most pressing challenges.

Early-phase EIR grantees are expected to continuously make improvements in project design and implementation before conducting a full-scale evaluation of effectiveness. Grantees should consider questions such as:

• How easy would it be for others to implement this practice, and how can its implementation be improved?

• How can I use data from early indicators to gauge impact, and what changes in implementation and student achievement do these early indicators suggest? By focusing on continuous improvement and iterative development, Early-stage grantees can make adaptations that are necessary to increase their practice's potential to be effective and ensure that its EIR-funded evaluation assesses the impact of a thoroughly conceived practice.

In order to leverage existing information that can inform which kinds of practices could have a meaningful impact on underserved students, Early-phase applicants must demonstrate a rationale (as defined in this notice) for their project. In addition, like all EIR grantees, Early-stage grantees are expected to conduct an independent evaluation. Given EIR's goal of helping develop a collective body of evidence that can inform the future expansion and refinement of practices that effectively serve high-need students, Early-stage grantees' evaluation designs are expected to have the potential meet the moderate evidence (as defined in this notice) threshold. Not only will such evaluation data build the knowledge base about effective practices for underserved students, but it will also encourage prospective Mid-phase applicants to leverage the findings from Early-phase grantees' efforts, and thereby continue to evolve EIR-funded practices.

To the extent possible, we intend to fund multiple projects addressing similar challenges. By so doing, we aim to accelerate the building of a knowledge base of effective practices for addressing these challenges and increase the likelihood that grantees can learn from one another while still exploring different approaches. We believe that improving outcomes across the education sector depends, in part, upon policymakers, practitioners and researchers continually building upon one another's efforts to have the greatest impact.

All EIR applicants are required to serve high-need students and are therefore required to address absolute priority one. In addition, EIR Early-phase applicants are also required to address one of the other five absolute priorities. These are critical areas in which rigorous evidence is scarce, and schools, districts, and States can meaningfully contribute to the generation and use of evidence-based approaches.

First, we include an absolute priority to improve school climate. Under this priority, the Department seeks to support innovative alternatives to exclusionary discipline policies and to support positive interventions that can address the negative and often disparate impact of classroom removals by promoting safe schools that have a positive culture for all students. Research has shown that implementing alternative disciplinary policies and behavioral supports can support both improved academic and non-academic outcomes for students.¹ More efforts are needed to identify the root causes of discipline-related disparities, to demonstrate viable alternatives to removing students from classroom activities, and to contribute new research on how such practices can result in positive outcomes. Such efforts can help ensure a positive and inclusive school culture for students and educators alike.

¹ Flay, B., Acock, A., Vuchinich, S., and Beets, M. (2006). Progress Report of the Randomized Trial of Positive Action in Hawaii: End of Third Year of Intervention. Twin Falls, ID: Positive Action, Inc.; Flay, B.R., and Allred, C.G. (2003). “Long-term Effects of the Positive Action Program.” American Journal of Healthy Behavior, 27(1), 6-21.

Second, we include an absolute priority focusing on student diversity. In parts of the country, America's schools are more segregated than they were in the late 1960s, including by students' race and socioeconomic status.² One-quarter of our nation's public school students attend high-poverty schools where more than 75 percent of the student body is eligible for free and reduced-price lunch; in our cities, nearly half of all students attend schools where poverty is concentrated.³ In addition, almost half of all African-American and Latino public school students attend economically segregated schools. Children raised in segregated communities have significantly lower social and economic mobility than children growing up in integrated communities, and States with socioeconomically segregated schools tend to have larger achievement gaps between students from low- and higher-income households.⁴ There is a growing body of evidence suggesting that socioeconomic diversity in schools can lead to improved outcomes for students from low-income households (compared to students from low-income households who attend higher-poverty schools),⁵ and innovative strategies for increasing diversity within classroom or school environments could benefit all high-need students. These strategies may include new instructional approaches that impact socioeconomic integration and student achievement within schools (e.g., schools could improve participation of students from low-income households in advanced placement or “honors” coursework) or redesigned inter-district recruitment and admissions strategies to support and foster such diversity in schools. It is particularly important to focus concurrently on increasing diversity and improving student outcomes (including closing gaps in academic performance between socioeconomic and racial groups) in areas where schools are acutely impacted by segregation.

² Orfield, G., and Frankenberg, E., (May, 2014). Brown at 60: Great Progress, a Long Retreat and an Uncertain Future. Civil Rights Project/Proyecto Derechos Civiles, May 2014 (revised version 5-15-14).

³ U.S. Department of Education, National Center for Education Statistics, Common Core of Data (CCD), “Public Elementary/Secondary School Universe Survey,” 2012-13. See Digest of Education Statistics 2014. https://nces.ed.gov/ccd/pubschuniv.asp.

⁴ Mantil, A., Perkins, A.G., and Aberger, S., (2012). “The Challenge of High-Poverty Schools: How Feasible Is Socioeconomic School Integration?” The Future of School Integration: 155-222.

⁵ Stuart Wells, A., Fox, L., and Cordova-Cobo, D. (February 2016). “How Racially Diverse Schools and Classrooms Can Benefit All Students.” The Century Foundation. Available at: https://tcf.org/content/report/how-racially-diverse-schools-and-classrooms-can-benefit-all-students/. Paper presented at the American Sociological Association, Chicago, IL; Mickelson, R.A. (2001). “Subverting Swann: First and Second-Generation Segregation in Charlotte, North Carolina.” American Educational Research Journal, 38, 215-252; Mickelson, R.A. (2006). How Middle School Segregation Contributes to the Race Gap in Academic Achievement. Paper presented at AERA 425; Tevis, (2007). African-American Students' College Transition Trajectory: An Examination of the Effects of High School Composition and Expectations on Degree Attainment. Dissertation in Educational Theory & Policy. The Pennsylvania State University.

Third, we include an absolute priority to increase the number and proportion of high-need students who are academically prepared for the transition to college, other postsecondary education, or other career and technical education. Postsecondary education is an increasingly critical requirement for succeeding in today's economy. By 2020, approximately 35 percent of job openings will require at least a bachelor's degree, and another 30 percent will require at least an associate's degree or some college.⁶ However, many high school students—especially those from low-income backgrounds—lack access to the rigorous coursework and support services that help prepare students for success in college or career education. New approaches are needed to address inequities in preparation for postsecondary education, and to help high-need students to transition successfully to college or to technical training that will lead to meaningful employment opportunities. Applicants under this priority must serve students in K-12 settings at some point during the grant, but may also provide support to help these students enroll in and successfully transition into college or other career or technical education.

⁶ Anthony P. Carnevale, Nicole Smith and Jeff Strohl. (2014). “Recovery, Job Growth and Education Requirements Through 2020.” Georgetown Public Policy Institute Center on Education and the Workforce. Available at: https://cew.georgetown.edu/wp-content/uploads/2014/11/Recovery2020.FR_.Web_.pdf.

Fourth, the Department includes an absolute priority to increase the number of effective principals who improve student outcomes in public schools. School leaders play an essential role in shaping school cultures, aligning parents and educators around shared goals, and, ultimately, influencing student achievement.⁷ Yet preparation programs and support for school leaders are often lacking. The best principal preparation programs, for example, may include rigorous screening and selection entry requirements, offer courses that are aligned with standards of practice, and provide sufficient clinical experiences for candidates. Current principals need support and development opportunities that will enable them to shape a strong professional community with collective responsibility for student learning. The evidence base of effective practices for training, supporting, and retaining high-impact school leaders is relatively underdeveloped, and new, aligned efforts from EIR grantees could make significant strides in better understanding how to ensure that our school leaders are best positioned to improve the achievement of high-need students.

⁷ Sebastian, J., & Allensworth, E. (2012). “The influence of principal leadership on classroom instruction and student learning a study of mediated pathways to learning.” Educational Administration Quarterly, 48(4), 626-663. Available at: http://eaq.sagepub.com/content/48/4/626.short.

Finally, we include an absolute priority to reconnect disconnected youth (as defined in this notice) to educational opportunities. Today, roughly 14 percent of youth ages 16 to 24 in America are neither enrolled in school nor working.⁸ This percentage equates to more than 5.6 million young Americans (more youths than in the entire K-12 public school systems in Colorado, Georgia, Michigan, and Virginia combined).⁹ Consequently, we believe it is important to link disconnected youth with the appropriate supports and interventions they need to achieve academic success. One approach might include cross-sector regional initiatives that create opportunities for disconnected youth to get a high school diploma (or equivalent) before pursuing postsecondary education or full-time employment. Another possibility is to build upon the experiences of “re-engagement centers” such as those in Boston, MA, Washington, DC, and St. Paul, MN, where communities have shown positive outcomes in re-connecting youth with the systems and supports needed for academic and career success.¹⁰ Additionally, States, districts, and schools might better utilize longitudinal data systems to provide timely information about students at risk of dropping out, those students who are chronically absent, or those who have already dropped out in order to better match them with targeted educational and related interventions.

⁸ Kena, G., Musu-Gillette, L., Robinson, J., Wang, X., Rathbun, A., Zhang, J., Wilkinson-Flicker, S., Barmer, A., and Dunlop Velez, E. (2015). The Condition of Education 2015 (NCES 2015-144). U.S. Department of Education, National Center for Education Statistics. Washington, DC. Retrieved August 13, 2015 from http://nces.ed.gov/programs/coe/indicator_soa.asp.

⁹ U.S. Department of Education, National Center for Education Statistics, Common Core of Data (CCD), “State Nonfiscal Survey of Public Elementary/Secondary Education,” 1990-91 through 2012-13.Table 203.20. http://nces.ed.gov/programs/digest/d14/tables/dt14_203.20.asp.

¹⁰ For additional information please see: http://www.bostonpic.org/programs/project-reconnect, http://osse.dc.gov/dcreengagementcenter, and http://www.ujamaaplace.org/about.html.

Priorities: This competition includes six absolute priorities. Absolute Priority 1 is from the Department's notice of final supplemental priorities and definitions for discretionary grant programs, published in the Federal Register on December 10, 2014 (79 FR 73425) (Supplemental Priorities). We are establishing Absolute Priorities 2, 3, 4, 5, and 6 in accordance with section 437(d)(1) of the General Education Provisions Act (GEPA), 20 U.S.C. 1232(d)(1). These absolute priorities will apply to the FY 2017 EIR Early-phase competition and any subsequent year in which we make awards from the list of unfunded applicants from this competition.

Absolute Priorities: These priorities are absolute priorities. Under 34 CFR 75.105(c)(3) we consider only applications that meet Absolute Priority 1, Supporting High-Need Students, and one additional priority. Applicants must clearly identify the specific absolute priority that the proposed project addresses.

These priorities are:

Absolute Priority 1—Supporting High-Need Students

Under this priority, we provide funding to projects that are designed to improve academic outcomes for high-need students.

Absolute Priority 2—Improving School Climate

Under this priority, we provide funding to projects that are designed to improve student outcomes through reducing or eliminating disparities in school disciplinary practices for particular groups of students, including students of color and students with disabilities, or reducing or eliminating the use of exclusionary discipline (such as suspensions, expulsions, and unnecessary placements in alternative education programs) by identifying and addressing the root causes of those disparities or uses and promoting alternative disciplinary practices that address the disparities or uses.

Absolute Priority 3—Promoting Diversity

Under this priority, we provide funding to projects that are designed to help LEAs prepare students for success in an increasingly diverse society by increasing the diversity—including racial, ethnic, and socioeconomic diversity—of students enrolled in the individual schools in the LEAs.

Absolute Priority 4—Increasing Postsecondary Preparedness

Under this priority, we provide funding to projects that are designed to increase the number and proportion of K-12 high-need students who are academically and socially prepared for and subsequently enroll in college, other postsecondary education, or other career and technical education.

Absolute Priority 5—Improving the Effectiveness of Principals

Under this priority, we provide funding to projects that are designed to increase the number and percentage of highly effective principals by creating or expanding practices and strategies to recruit, select, prepare, and support individuals to significantly improve instruction in schools.

Absolute Priority 6—Re-Engagement of Disconnected Youth

Under this priority, we provide funding to projects that are designed to improve student achievement through strategies that provide disconnected youth (as defined in this notice) with high-quality educational opportunities.

Definitions

The definition of “nonprofit” is from 34 CFR 77.1. The definitions for “disconnected youth,” “high-need students,” and “regular high school diploma,” are from the Supplemental Priorities. The definitions of “local educational agency” and “state educational agency” are from Section 8101 of the ESEA, as amended by ESSA. We are establishing the definitions for “demonstrates a rationale,” “experimental study,” “high-minority school,” “independent evaluation,” “large sample,” “logic model,” “meets What Works Clearinghouse Evidence Standards without reservations,” “meets What Works Clearinghouse Evidence Standards with reservations,” “moderate evidence,” “multi-site sample,” “practice,” “quasi-experimental design study,” “randomized controlled trial,” “regression discontinuity design study,” “relevant finding,” “relevant outcome,” “rural local educational agencies,” “single-case design study,” and “student achievement” for the FY 2017 grant competition only, in accordance with section 437(d)(1) of the General Education Provisions Act (GEPA), 20 U.S.C. 1232(d)(1).

Demonstrates a rationale means the practice is supported by a reasonable logic model (as defined in this notice) that that is informed by research or an evaluation that suggests how the practice is likely to improve relevant outcomes (as defined in this notice).

Disconnected youth means low-income individuals, ages 14-24, who are homeless, are in foster care, are involved in the justice system, or are not working or not enrolled in (or at risk of dropping out of) an educational institution.

Experimental study means a study, such as a randomized controlled trial (RCT) (as defined in this notice), that is designed to compare outcomes between two groups of individuals that are otherwise equivalent except for their assignment to either a treatment group receiving a practice or a control group that does not. In some circumstances, a finding from a regression discontinuity design study (RDD) (as defined in this notice) or findings from a collection of single-case design studies (SCDs) (as defined in this notice) may be considered equivalent to a finding from an RCT. RCTs and RDDs, and collections of SCDs, depending on design and implementation, can Meet What Works Clearinghouse Evidence Standards without reservations (as defined in this notice).

High-minority school means a school as that term is defined by a local educational agency (LEA) (as defined in this notice), which must define the term in a manner consistent with its State's Teacher Equity Plan, as required by section 1111(g)(1)(B) of the Elementary and Secondary Education Act (ESEA), as amended by Every Student Succeeds Act (ESSA). The applicant must provide the definition(s) of high-minority schools (as defined in this notice) used in its application.

High-need students means students who are at risk for educational failure or otherwise in need of special assistance and support, such as students who are living in poverty, who attend high-minority schools (as defined in this notice), who are far below grade level, who have left school before receiving a regular high school diploma (as defined in this notice), who are at risk of not graduating with a diploma on time, who are homeless, who are in foster care, who have been incarcerated, who have disabilities, or who are English learners.

Independent evaluation means that the evaluation is designed and carried out independent of, but in coordination with, any employees of the entities who develop a practice and are implementing it.

Large sample means an analytic sample of 350 or more students (or other single analysis units), or 50 or more groups (such as classrooms or schools) that each contain, on average, 10 or more students (or other single analysis units, regardless of whether these single analysis units are disaggregated in the analysis of outcomes for the groups). Multiple studies can cumulatively meet the large sample and multi-site (as defined in this notice) requirements of moderate evidence, as long as each study meets the other requirements of the particular level of evidence (i.e., moderate evidence).

Local educational agency means:

(a) A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the local educational agency receiving assistance under this Act with the smallest student population, except that the school shall not be subject to the jurisdiction of any State educational agency (as defined in this notice) other than the Bureau of Indian Education.

(d) Educational Service Agencies. The term includes educational service agencies and consortia of those agencies.

(e) State Educational Agency. The term includes the State educational agency in a State in which the State educational agency is the sole educational agency for all public schools.

Logic model (also known as a theory of action) means a reasonable conceptual framework that identifies key components of the proposed project (i.e., the active “ingredients” that are hypothesized to be critical to achieving the relevant outcomes) and describes the theoretical and operational relationships among the key components and outcomes.

Meets What Works Clearinghouse Evidence Standards without reservations is the highest possible rating for a study finding reviewed by the What Works Clearinghouse (WWC). Studies receiving this rating provide the highest degree of confidence that an estimated effect was caused by the practice studied. Experimental studies (as defined in this notice) may receive this highest rating. These standards are described in the WWC Procedures and Standards Handbooks, Version 3.0, which can be accessed at http://ies.ed.gov/ncee/wwc/Handbooks.

Meets What Works Clearinghouse Evidence Standards with reservations is the second-highest rating for a study finding reviewed by the What Works Clearinghouse (WWC). Studies receiving this rating provide a reasonable degree of confidence that an estimated effect was caused by the practice studied. Both experimental studies (as defined in this notice) (such as randomized controlled trials with high rates of sample attrition) and quasi-experimental design studies (as defined in this notice) may receive this rating if they establish the equivalence of the treatment and comparison groups in key baseline characteristics. These standards are described in the WWC Procedures and Standards Handbooks, Version 3.0, which can be accessed at http://ies.ed.gov/ncee/wwc/Handbooks.

Moderate evidence means the following conditions are met: (a) There is at least one experimental or quasi-experimental design study of the effectiveness of the practice with a relevant finding (as defined in this notice) that Meets What Works Clearinghouse Evidence Standards with or without reservations (as defined in this notice) (e.g., a quasi-experimental design study or high-attrition randomized controlled trial that establishes the equivalence of the treatment and comparison groups in student achievement at baseline); (b) the relevant finding in the study described in paragraph (a) is of a statistically significant and positive (i.e., favorable) effect on a student outcome or other relevant outcome, with no statistically significant and overriding negative (i.e., unfavorable) evidence on that practice from other findings on the intervention reviewed by and reported on the What Works Clearinghouse that Meet What Works Clearinghouse Evidence Standards with or without reservations; (c) the relevant finding in the study described in paragraph (a) is based on a sample that overlaps with the populations (e.g., the types of student served) or settings proposed to receive the practice (e.g., an after-school program studied in urban high schools and proposed for rural high schools); and (d) the relevant finding in the study described in paragraph (a) is based on a large sample and a multi-site sample (as defined in this notice).

Multi-site sample means more than one site, where site can be defined as an LEA, locality, or State. A sample could be multi-site if it includes campuses in two or more localities (e.g., cities or counties), even if the campuses all belong to the same LEA or the same postsecondary school system. Multiple studies can cumulatively meet the multi-site sample and large sample (as defined in this notice) requirements of moderate evidence, as long as each study meets the other requirements of the particular level of evidence (i.e., moderate evidence).

Nonprofit, as applied to an agency, organization, or institution, means that it is owned and operated by one or more corporations or associations whose net earnings do not benefit, and cannot lawfully benefit, any private shareholder or entity.

Practice means an activity, strategy, or intervention included in a project. Evidence may pertain to an individual practice, or to a combination of practices (e.g., training teachers on instructional practices for English learners and follow-on coaching for these teachers).

Quasi-experimental design study (QED) means a study using a design that attempts to approximate an experimental design by identifying a comparison group that is similar to the treatment group in important respects. This type of study, depending on design and implementation, can Meet What Works Clearinghouse Evidence Standards with reservations (but not without reservations).

Randomized controlled trial (RCT) means a study that employs random assignment of, for example, students, teachers, classrooms, or schools to receive the practice being evaluated (the treatment group) or not to receive the practice (the control group). The estimated effectiveness of the practice is the difference between the average outcomes for the treatment group and for the control group. These studies, depending on design and implementation, can Meet What Works Clearinghouse Evidence Standards without reservations.

Regression discontinuity design study (RDD) means a study that assigns the practice being evaluated using a measured variable (e.g., assigning students reading below a cutoff score to tutoring or developmental education classes) and controls for that variable in the analysis of outcomes. The effectiveness of the practices is estimated for individuals who barely qualify to receive that practice. These studies, depending on design and implementation, can Meet What Works Clearinghouse Evidence Standards without reservations.

Regular high school diploma means the standard high school diploma that is awarded to students in the State and that is fully aligned with the State's academic content standards or a higher diploma and does not include a General Education Development (GED) credential, certificate of attendance, or any alternative award.

Relevant finding means a finding from a study regarding the relationship between (a) an activity, strategy, or intervention included as a practice of the logic model for the proposed project, and (b) a student outcome or other relevant outcome included in the logic model for the proposed project.

Relevant outcome means the student outcome(s) (or the ultimate outcome if not related to students) the proposed practice is designed to improve; consistent with the specific goals of a project.

Rural local educational agencies means local educational agencies with an urban-centric district locale code of 32, 33, 41, 42, or 43, which can be found at the following link: https://nces.ed.gov/ccd/ccdLocaleCodeDistrict.asp.

Single-case design study (SCD) means a study that use observations of a single case (e.g., a student eligible for a behavioral intervention) over time in the absence and presence of a controlled treatment manipulation to determine whether the outcome is systematically related to the treatment. According to the What Works Clearinghouse Single Case Design Pilot Standards, a collection of these studies, depending on design and implementation (e.g., including a sufficient number of cases and of data points per condition), can Meet What Works Clearinghouse Evidence Standards without reservations.

State educational agency means the agency primarily responsible for the State supervision of public elementary schools and secondary schools.

Student achievement means—

For grades and subjects in which assessments are required under section 1111(b)(2) of Elementary and Secondary Education Act (ESEA), as amended by Every Student Succeeds Act (ESSA): (1) A student's score on such assessments; and, as appropriate (2) other measures of student learning, such as those described in the subsequent paragraph, provided that they are rigorous and comparable across schools with a local educational agency (LEA).

For grades and subjects in which assessments are not required under section 1111(b)(2) of ESEA, as reauthorized by ESSA: (1) Alternative measures of student learning and performance, such as student results on pre-tests, end-of-course tests, and objective performance-based assessments; (2) students learning objectives; (3) student performance on English language proficiency assessments; and (4) other measures of student achievement that are rigorous and comparable across schools within an LEA.

Waiver of Proposed Rulemaking: Under the Administrative Procedure Act (5 U.S.C. 553), the Department generally offers interested parties the opportunity to comment on proposed priorities, definitions, and other requirements. Section 437(d)(1) of GEPA, however, allows the Secretary to exempt from rulemaking requirements, regulations governing the first grant competition under a new or substantially revised program authority. This grant competition is the first grant competition for the EIR program under 20 U.S.C. 1138-1138d and therefore qualifies for this exemption. In order to ensure timely grant awards, the Secretary has decided to forego public comment on the priorities, definitions, and requirements under section 437(d)(1) of GEPA. These priorities, definitions, and requirements will apply to the FY 2017 grant competition only.

Program Authority: Section 4611 of the ESEA, as amended by ESSA.

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

Note: The regulations in 34 CFR part 79 apply to all applicants except federally recognized Indian tribes.

Note: The regulations in 34 CFR part 86 apply to institutions of higher education only.

II. Award Information

Type of Award: Cooperative agreements.

Estimated Available Funds: The Administration has requested $180,000,000 for the EIR program for FY 2017, of which approximately $141,000,000 would be used, in total, for new awards under the Early-phase, Mid-phase, and Expansion competitions. The actual level of funding, if any, depends on final congressional action. However, we are inviting applications to allow enough time to complete the grant process if Congress appropriates funds for this program.

Contingent upon the availability of funds and the quality of applications, we may make additional awards in subsequent years from the list of unfunded applications from this competition.

Estimated Range of Awards:

Early-phase grants: $700,000-$800,000 per year.

Mid-phase grants: $1,400,000-$1,600,000 per year.

Expansion grants: $2,750,000-$3,000,000 per year.

Estimated Average Size of Awards:

Early-phase grants: $3,750,000 for the entirety of the project period.

Mid-phase grants: $7,750,000 for the entirety of the project period.

Expansion grants: $14,500,000 for the entirety of the project period.

Estimated Number of Awards:

Early-phase grants: 24-38 awards.

Mid-phase grants: 15-20 awards.

Expansion grants: 3-5 awards.

Maximum Awards:

Early-phase grants: $4,000,000 for the entirety of the project period.

Mid-phase grants: $8,000,000 for the entirety of the project period.

Expansion grants: $15,000,000 for the entirety of the project period.

Project Period: Up to 60 months.

Under section 4611(c) of the ESEA, as amended by ESSA, the Department must use at least 25 percent of EIR funds for a fiscal year to make awards to applicants serving rural areas, contingent on receipt of a sufficient number of applications of sufficient quality. For purposes of this competition, we will consider an applicant as rural if the applicant meets the qualifications for rural applicants as described in the eligible applicants section and the applicant certifies that it meets those qualifications through the application. In implementing this statutory provision, the Department may fund high-quality applications from rural applicants out of rank order in one or more of the EIR competitions.

Note: The Department is not bound by any estimates in this notice.

III. Eligibility Information

1. Eligible Applicants:

(a) An LEA;

(b) A State educational agency;

(c) The Bureau of Indian Education;

(d) A consortium of State educational agencies or LEAs;

(e) A nonprofit organization; and

(f) A State educational agency, an LEA, a consortium described in (d), or the Bureau of Indian Education, in partnership with—

(1) A nonprofit (as defined in this notice) organization;

(2) A business;

(3) An educational service agency; or

(4) An institution of higher education.

To qualify as a rural applicant under the EIR program, an applicant must meet both of the following requirements:

(a) The applicant is—

(1) An LEA with an urban-centric district locale code of 32, 33, 41, 42, or 43, as determined by the Secretary;

(2) A consortium of such LEAs;

(3) An educational service agency or a nonprofit organization in partnership with such an LEA; or

(4) A grantee described in clause (1) or (2) in partnership with a State educational agency; and

(b) A majority of the schools to be served by the program are designated with a locale code of 32, 33, 41, 42, or 43, or a combination of such codes, as determined by the Secretary.

More information on rural applicant eligibility is in the application package.

2.a. Cost Sharing or Matching: Under section 4611 of the ESEA, as amended by ESSA, each grant recipient must provide, from Federal, State, local, or private sources, an amount equal to 10 percent of funds provided under the grant, which may be provided in cash or through in-kind contributions, to carry out activities supported by the grant. Grantees must include a budget showing their matching contributions on an annual basis relative to the annual budget amount of EIR grant funds and must provide evidence of their matching contributions for the first year of the grant in their grant applications. Section 4611 of the ESEA, as amended by ESSA also authorizes the Secretary to waive this matching requirement on a case-by-case basis, upon a showing of exceptional circumstances, such as:

(a) The difficulty of raising matching funds for a program to serve a rural area;

(b) The difficulty of raising matching funds in areas with a concentration of local educational agencies or schools with a high percentage of students aged 5 through 17—

(1) Who are in poverty, as counted in the most recent census data approved by the Secretary;

(2) Who are eligible for a free or reduced price lunch under the Richard B. Russell National School Lunch Act (42 U.S.C. 1751 et seq.);

(3) Whose families receive assistance under the State program funded under part A of title IV of the Social Security Act (42 U.S.C. 601 et seq.); or

(4) Who are eligible to receive medical assistance under the Medicaid program; and

(c) The difficulty of raising funds on tribal land.

Applicants that wish to apply for a waiver must include a request in their application that describes why the matching requirement would cause serious hardship or an inability to carry out project activities. Further information about applying for waivers can be found in the application package. However, given the importance of matching funds to the long-term success of the project, the Secretary expects eligible entities to identify appropriate matching funds.

3. Other: The Secretary establishes the following requirements for the EIR program.

• Innovations that Serve Kindergarten-through-Grade-12 (K-12) Students: All grantees must implement practices that serve students who are in grades K-12 at some point during the funding period. To meet this requirement, projects that serve early learners (i.e., infants, toddlers, or preschoolers) must provide services or supports that extend into kindergarten or later years, and projects that serve postsecondary students must provide services or supports during the secondary grades or earlier.

• Evidence Standards: To be eligible for an award, an application for an Early-phase grant must demonstrate a rationale by including a reasonable logic model that is informed by research or an evaluation that suggests how the intervention is likely to improve relevant outcomes, and includes an effort to study the effects of the intervention that will happen as part of the proposed project.

• Funding Categories: An applicant will be considered for an award only for the type of EIR grant (i.e., Early-phase, Mid-phase, and Expansion grant) for which it applies. An applicant may not submit an application for the same proposed project under more than one type of grant.

Note: Each application will be reviewed under the competition it was submitted under in the Grants.gov system, and only applications that are successfully submitted by the established deadline will be peer reviewed. Applicants should be careful that they download the intended EIR application package and that they submit their applications under the intended EIR competition.

• Limit on Grant Awards: No grantee may receive in a single year new EIR grant awards that total an amount greater than the sum of the maximum amount of funds for an Expansion grant and the maximum amount of funds for an Early-phase grant for that year. For example, in a year when the maximum award value for an Expansion grant is $15 million and the maximum award value for an Early-phase grant is $4 million, no grantee may receive in a single year new grants totaling more than $19 million.

• Partnerships: An applicant must demonstrate sufficient partnerships with schools/LEA(s) by identifying in the application implementation schools/LEA(s) for years 1 and 2 of the grant project.

• Evaluation: The grantee must conduct an independent evaluation (as defined in this notice) of its project. This evaluation must estimate the impact of the EIR-supported practice (as implemented at the proposed level of scale) on a relevant outcome, with an evaluation design with the potential to meet moderate evidence (as defined in this notice).

The first years of an Early-phase grant are expected to focus on developing and iterating the practice in a few schools (or a limited version of the practice in a greater number of schools), and the independent evaluation is expected to generate information to inform the practice's development and iteration; the remaining years of an Early-phase grant are expected to entail full-scale implementation across the project's full set of schools, and the independent evaluation is expected to be an efficacy study of the practice, designed to have the potential meet the moderate evidence (as defined in this notice) threshold.

In addition, the grantee and its independent evaluator must agree to cooperate with any technical assistance provided by the Department or its contractor and comply with the requirements of any evaluation of the program conducted by the Department. This includes providing to the Department or its contractor, an updated comprehensive evaluation plan in a format and using such tools as the Department may require, as outlined in the Cooperative Agreement. Grantees must update this evaluation plan at least annually to reflect any changes to the evaluation. All of these updates must be consistent with the scope and objectives of the approved application.

• Public Availability of Results:

Recipients of awards are expected to publish or otherwise make publicly available the results of the work supported through EIR, including the evaluation report. EIR grantees must submit final studies resulting from research supported in whole or in part by EIR to the Educational Resources Information Center (ERIC, http://eric.ed.gov).

• Scaling: Early-phase grants must scale to multiple schools over the life of the project. Scaling targets should be established for the number of students to be served for the total project period as well as the target number of students to be served each year of the project. Early-phase grants must also include their scaling strategy as a component of the evaluation plan for the grant. Given that all EIR grantees are required to report on the performance measure regarding the target number of students served by the grant, applicants should propose scaling targets that represent reasonable costs per student for the grant.

• Management Plan: An EIR grantee must provide an updated comprehensive management plan for the approved project in a format and using such tools as the Department may require, as outlined in the Cooperative Agreement. This management plan must include detailed information about implementation of the first year of the grant, including key milestones, staffing details, and other information that the Department may require. It must also include a complete list of performance metrics, including baseline measures and annual targets. The grantee must update this management plan at least annually to reflect implementation of subsequent years of the project.

IV. Application and Submission Information

1. Address to Request Application Package: You can obtain an application package via the Internet or from the Education Publications Center (ED Pubs). To obtain a copy via the Internet, use the following address: http://innovation.ed.gov/what-we-do/innovation/education-innovation-and-research-eir/. To obtain a copy from ED Pubs, write, fax, or call: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.411C.

Individuals with disabilities can obtain a copy of the application package in an accessible format (e.g., Braille, large print, audiotape, or compact disc) by contacting the person or team listed under Accessible Format in section VIII of this notice.

2.a. Content and Form of Application Submission: Requirements concerning the content and form of an application, together with the forms you must submit, are in the application package for this competition.

Notice of Intent to Apply: February 13, 2017.

We will be able to develop a more efficient process for reviewing grant applications if we know the approximate number of applicants that intend to apply for funding under this competition. Therefore, the Secretary strongly encourages each potential applicant to notify us of the applicant's intent to submit an application by completing a Web-based form. When completing this form, applicants will provide (1) the applicant organization's name and address and (2) the absolute priority the applicant intends to address. Applicants may access this form online at https://www.surveymonkey.com/r/GSPSYXQ. Applicants that do not complete this form may still submit an application.

Pre-Application: The EIR program intends to hold webinars and/or meetings designed to provide technical assistance to interested applicants for all three types of grants. Detailed information regarding these webinars and/or meetings will be provided on the EIR Web site at http://innovation.ed.gov/what-we-do/innovation/education-innovation-and-research-eir/.

Page Limit: The application narrative (Part III of the application) is where you, the applicant, address the selection criteria that reviewers use to evaluate your application. Applicants should limit the application narrative for an Early-phase grant application to no more than 25 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit does not apply to Part I, the cover sheet; Part II, the budget section, including the narrative budget justification; Part IV, the assurances and certifications; or the one-page abstract, the resumes, the bibliography, or the letters of support. However, the page limit does apply to all of the application narrative.

b. Submission of Proprietary Information: Given the types of projects that may be proposed in applications for the Early-phase competition, your application may include business information that you consider proprietary. In 34 CFR 5.11 we define “business information” and describe the process we use in determining whether any of that information is proprietary and, thus, protected from disclosure under Exemption 4 of the Freedom of Information Act (5 U.S.C. 552, as amended).

We plan on posting the project narrative section of funded EIR applications on the Department's Web site. Accordingly, you may wish to request confidentiality of business information. Identifying proprietary information in the submitted application will help facilitate this public disclosure process.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Applications Available: December 19, 2016.

Deadline for Notice of Intent to Apply: February 13, 2017.

Pre-Application Webinars and/or Meetings: The EIR program intends to hold webinars and/or meetings designed to provide technical assistance to interested applicants for all three types of grants. Detailed information regarding these webinars and/or meetings will be provided on the EIR Web site at http://innovation.ed.gov/what-we-do/innovation/education-innovation-and-research-eir/.

Deadline for Transmittal of Applications: April 13, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: June 13, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program competition must be submitted electronically unless you qualify for an exception to this requirement in accordance with the instructions in this section.

a. Electronic Submission of Applications.

Applications for grants under the EIR Program, CFDA number 84.411C, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for EIR Early-phase at www.Grants.gov. You must search for the downloadable application package for this competition by the CFDA number. Do not include the CFDA number's alpha suffix in your search (e.g., search for 84.411, not 84.411C).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only Portable Document Format (PDF). Do not upload an interactive or fillable PDF file. If you upload a file type other than a read-only PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Kelly Terpak, U.S. Department of Education, 400 Maryland Avenue SW., Room 4W312, Washington, DC 20202-5900. FAX: (202) 401-4123.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.411C), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.411C), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for the Early-phase competition are from 34 CFR 75.210.

The points assigned to each criterion are indicated in the parentheses next to the criterion. An applicant may earn up to a total of 100 points based on the selection criteria for the application.

A. Significance (Up to 30 Points)

In determining the significance of the project, the Secretary considers the following factors:

(1) The national significance of the proposed project.

(2) The extent to which the proposed project involves the development or demonstration of promising new strategies that build on, or are alternatives to, existing strategies.

(3) The extent to which the proposed project represents an exceptional approach to the priority or priorities established for the competition.

B. Quality of the Project Design and Management Plan (Up to 50 Points)

In determining the quality of the proposed project design, the Secretary considers the following factors:

(1) The extent to which the goals, objectives, and outcomes to be achieved by the proposed project are clearly specified and measurable.

(2) The adequacy of the management plan to achieve the objectives of the proposed project on time and within budget, including clearly defined responsibilities, timelines, and milestones for accomplishing project tasks.

(3) The extent to which performance feedback and continuous improvement are integral to the design of the proposed project.

(4) The mechanisms the applicant will use to broadly disseminate information on its project so as to support further development or replication.

D. Quality of the Project Evaluation (Up to 20 Points)

In determining the quality of the project evaluation to be conducted, the Secretary considers the following factors:

(1) The extent to which the methods of evaluation will, if well implemented, produce evidence about the project's effectiveness that would meet the What Works Clearinghouse Evidence Standards with reservations.

(2) The extent to which the evaluation will provide guidance about effective strategies suitable for replication or testing in other settings.

(3) The extent to which the methods of evaluation will provide valid and reliable performance data on relevant outcomes.

(4) The extent to which the evaluation plan clearly articulates the key components, mediators, and outcomes of the grant-supported intervention, as well as a measurable threshold for acceptable implementation.

Note: Applicants may wish to review the following technical assistance resources on evaluation: (1) WWC Procedures and Standards Handbook: http://ies.ed.gov/ncee/wwc/references/idocviewer/doc.aspx?docid=19&tocid=1; (2) “Technical Assistance Materials for Conducting Rigorous Impact Evaluations” to the list of evaluation resources: http://ies.ed.gov/ncee/projects/evaluationTA.asp; and (3) IES/NCEE Technical Methods papers: http://ies.ed.gov/ncee/tech_methods/. In addition, applicants may view two optional Webinar recordings that were hosted by the Institute of Education Sciences. The first Webinar discussed strategies for designing and executing well-designed quasi-experimental design studies and is available at: http://ies.ed.gov/ncee/wwc/Multimedia.aspx?sid=23. The second Webinar focused on more rigorous evaluation designs, discussing strategies for designing and executing studies that meet WWC evidence standards without reservations. This Webinar is available at: http://ies.ed.gov/ncee/wwc/Multimedia.aspx?sid=18.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria provided in this notice. For Early-phase grant applications we intend to conduct a single-tier review.

In addition, in making a competitive grant award, the Secretary requires various assurances, including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: The overall purpose of the EIR program is to expand the implementation of, and investment in, innovative practices that are demonstrated to have an impact on improving student achievement for high-need students. We have established several performance measures for the EIR Early-phase grants. By reporting on these performance measures in Annual and Final Performance reports, grantees will satisfy the requirement in Section 8101(21)(A)(ii)(II) of the ESEA, as amended by ESSA, for projects relying on the “demonstrates a rationale” evidence level, to have “ongoing efforts to examine the effects” of the funded activity, strategy, or intervention.

Annual performance measures: (1) The percentage of grantees that reach their annual target number of students as specified in the application; (2) the percentage of grantees that reach their annual target number of high-need students as specified in the application; (3) the percentage of grantees with evaluations designed to provide performance feedback to inform project design; (4) the percentage of grantees with ongoing well-designed and independent evaluations that will provide evidence of their effectiveness at improving student outcomes; (5) the percentage of grantees that implement an evaluation that provides information about the key elements and the approach of the project so as to facilitate testing, development, or replication in other settings; and (6) the cost per student served by the grant.

Cumulative performance measures: (1) The percentage of grantees that reach the targeted number of students specified in the application; (2) the percentage of grantees that reached the target number of high-need students specified in the application; (3) the percentage of grantees that use evaluation data to make changes to their practice(s); (4) the percentage of grantees that implement a completed well-designed, well-implemented and independent evaluation that provides evidence of their effectiveness at improving student outcomes; (5) the percentage of grantees with a completed evaluation that provides information about the key elements and the approach of the project so as to facilitate testing, development or replication in other settings; and (6) the cost per student served by the grant.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Kelly Terpak, U.S. Department of Education, 400 Maryland Avenue SW., Room 4W312, Washington, DC 20202-5900. Telephone: (202) 453-7122. FAX: (202) 401-4123 or by email: eir@ed.gov.

If you use a TDD or a TTY, call the Federal Relay Service, toll free, at 1-800-877-8339.

VIII. Other Information

Accessible Format: Individuals with disabilities can obtain this document and a copy of the application package in an accessible format (e.g., Braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: December 9, 2016.
Nadya Chinoy Dabby,
Assistant Deputy Secretary for Innovation and Improvement.

[FR Doc. 2016-30085 Filed 12-14-16; 8:45 am]

BILLING CODE 4000-01-P